FEDERAL MARITIME COMMISSION

Ocean Transportation Intermediary License Applicants

The Commission gives notice that the following applicants have filed an application for an Ocean Transportation Intermediary (OTI) license as a Non-Vessel-Operating Common Carrier (NVO) and/or Ocean Freight Forwarder (OFF) pursuant to section 19 of the Shipping Act of 1984 (46 U.S.C. 40101). Notice is also given of the filing of applications to amend an existing OTI license or the Qualifying Individual (QI) for a licensee.

Interested persons may contact the Office of Ocean Transportation Intermediaries, Federal Maritime Commission, Washington, DC 20573, by telephone at (202) 523-5843 or by email at OTI@fmc.gov.

BeyondVista Corp. (NVO), 3551 Voyager Street, Suite D, Torrance, CA 90503, Officers: Cathy H. Ling, Secretary (QI), Brian Lai, President, Application Type: New NVO License.

Korchina Logistics USA, Inc. (NVO & OFF), 6131 Orangethorpe Avenue, Suite 430, Buena Park, CA 90620, Officers: Jin Kim, Secretary (QI), Eric E. Sun, CEO, Application Type: QI Change.

Integrated Global Logistics LLC (NVO & OFF), 1 Pennval Road, Woodbridge, NJ 07095, Officers: Anthony Graffia, Member/Manager (QI), Frank Perez, Member/Manager, Application Type: New NVO & OFF License.

International Movers LLC (NVO & OFF), 240 Boundary Road, Marlboro, NJ 07746, Officers: Michael Dragin, Manager/Operating Manager (QI), Mario Lalima, Member/Operating Manager, Application Type: New NVO & OFF License.

Maltacourt Global Logistics LLC (NVO & OFF), 2501 Santa Fe Avenue, Redondo Beach, CA 90278, Officer: Mario Bravo, Operating Manager (QI), Application Type: New NVO & OFF License.

Miami Ocean Logistics, Inc (NVO & OFF), 11003 NW 33rd Street, Doral, FL 33172, Officers: Mary J. Bruno, Secretary (QI), Danny Carchi, President, Application Type: New NVO & OFF License.

SFL Worldwide LLC (NVO), 14818 Venture Drive, Farmers Branch, TX 75234, Officer: Purveen Shah, Member (QI), Application Type: New NVO License.

STS Logistics USA, Inc. (NVO & OFF), 1750 112th Avenue NE., Suite C226, Bellevue, WA 98004, Officers: Nickolay A. Nickolaychuk, President (QI), Rustam Yuldashev, Director, Application Type: Name Change to Amrus Logistics, Inc.

Wiz Logis USA, Inc. (NVO & OFF), 17315 Studebaker Road, Suite 300E, Cerritos, CA 90703, Officers: Jong (A.K.A. Jake) K. Park, Secretary (QI), Jae Y. Yoo, President, Application Type: New NVO & OFF License.

By the Commission.
Dated: August 15, 2014.
Rachel E. Dickon,
Assistant Secretary.

[FR Doc. 2014-20614 Filed 8-28-14; 8:45 am]

BILLING CODE 6730-01-P